Proclamation 9011 of August 30, 2013

National Wilderness Month, 2013

By the President of the United States of America

A Proclamation

In September 1964, President Lyndon B. Johnson signed the Wilderness Act into law, recognizing places “where the earth and its community of life are untrammeled by man, where man himself is a visitor who does not remain.” Throughout our history, countless people have passed through America's most treasured landscapes, leaving their beauty unmarred. This month, we uphold that proud tradition and resolve that future generations will trek forest paths, navigate winding rivers, and scale rocky peaks as visitors to the majesty of our great outdoors.

My Administration is dedicated to preserving our Nation's wild and scenic places. During my first year as President, I designated more than 2 million acres of wilderness and protected over 1,000 miles of rivers. Earlier this year, I established five new national monuments, and I signed legislation to redesignate California's Pinnacles National Monument as Pinnacles National Park. To engage more Americans in conservation, I also launched the America's Great Outdoors Initiative. Through this innovative effort, my Administration is working with communities from coast to coast to preserve our outdoor heritage, including our vast rural lands and remaining wild spaces.

As natural habitats for diverse wildlife; as destinations for family camping trips; and as venues for hiking, hunting, and fishing, America's wilderness landscapes hold boundless opportunities to discover and explore. They provide immense value to our Nation—in shared experiences and as an integral part of our economy. Our iconic wilderness areas draw tourists from across the country and around the world, bolstering local businesses and supporting American jobs.

During National Wilderness Month, we reflect on the profound influence of the great outdoors on our lives and our national character, and we recommit to preserving them for generations to come.

NOW, THEREFORE, I, BARACK OBAMA, President of the United States of America, by virtue of the authority vested in me by the Constitution and the laws of the United States, do hereby proclaim September 2013 as National Wilderness Month. I invite all Americans to visit and enjoy our wilderness areas, to learn about their vast history, and to aid in the protection of our precious national treasures.

IN WITNESS WHEREOF, I have hereunto set my hand this thirtieth day of August, in the year of our Lord two thousand thirteen, and of the Independence of the United States of America the two hundred and thirty-eighth.

[FR Doc. 2013-21824

Filed 9-5-13; 8:45 am]

Billing code 3295-F3